ENVIRONMENTAL PROTECTION AGENCY

[FRL OP-OFA-132]

Environmental Impact Statements; Notice of Availability

Responsible Agency: Office of Federal Activities, General Information 202-564-5632 or https://www.epa.gov/nepa.

Weekly receipt of Environmental Impact Statements (EIS)

Filed June 14, 2024 10 a.m. EST Through June 24, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240113, Draft, FHWA, WI, Interstate 39/90/94 Corridor, Comment Period Ends: 08/12/2024, Contact: Lisa Hemesath 608-829-7503.

EIS No. 20240114, Draft, USACE, MS, Yazoo Backwater Area Water Management Project, Comment Period Ends: 08/12/2024, Contact: Mike Renacker 601-631-5842.

Dated: June 24, 2024.
Nancy Abrams,
Associate Director, Office of Federal Activities.

[FR Doc. 2024-14260 Filed 6-27-24; 8:45 am]

BILLING CODE 6560-50-P